DEPARTMENT OF LABOR

Employment and Training Administration

[NAFTA-4288]

Posies Inc., Rockport, ME; Notice of Termination of Investigation

Pursuant to Title V of the North American Free Trade Agreement Implementation Act (Pub. L. 103-183) concerning transitional adjustment assistance, hereinafter called NAFTA-TAA and in accordance with section 250(a), Subchapter D, Chapter 2, title II, of the Trade Act of 1974, as amended (19 U.S.C. 2331), an investigation was initiated on November 13, 2000, in response to a petition filed on behalf of workers at Posies Inc., Rockport Maine.

The petitioner has requested that the petition be withdrawn. Consequently, further investigation in this case would serve no purpose, and the investigation has been terminated.

Signed in Washington, D.C. this 28th day of December, 2000.
Linda G. Poole,
Certifying Officer Division of Trade Adjustment Assistance.

[FR Doc. 01-944 Filed 1-10-01; 8:45 am]

BILLING CODE 4510-30-M